DEPARTMENT OF HEALTH AND HUMAN SERVICES

Office of the Secretary

Findings of Research Misconduct

AGENCY: Office of the Secretary, HHS.

ACTION: Notice.

SUMMARY: Notice is hereby given that the Office of Research Integrity (ORI) has taken final action in the following case:

Peter Littlefield, University of California, San Francisco: Based on an assessment conducted by the University of California, San Francisco (UCSF), the Respondent's admission, and analysis conducted by ORI, ORI and UCSF found that Mr. Peter Littlefield, Graduate Student on a leave of absence from the Tetrad Graduate Program, UCSF, engaged in research misconduct in research supported by National Institute of General Medical Sciences (NIGMS), National Institutes of Health (NIH), training grant T32 GM007810 and grant R01 GM109176.

ORI found that the Respondent engaged in research misconduct by falsifying and/or fabricating data in the following two (2) publications:

• Science Signaling 7:ra114, 2014 (hereafter referred to as “Paper 1”)

• Chemistry & Biology 21:453-458, 2014 (hereafter referred to as “Paper 2”)

ORI found that Respondent knowingly falsified and/or fabricated data and related text by altering the experimental data to support the experimental hypothesis. Specifically:

1. ORI found falsified and/or fabricated data in Paper 1 in:

a. Figure 5B by manipulation of the HER3 protein concentrations in the experiment to provide the desired outcome

b. Figure 6C for the identification of the kinase domain construct EGFR-V924R by falsely claiming that both EGFR and HER3 contained the kinase domains and the full JM segments, when the JM-HER3 construct included cloning tags

c. Figure 6D by manually manipulating the error bars to increase statistical significance of the kinase assay

2. ORI found falsified and/or fabricated data in Paper 2 in:

a. Figure 3C by manually altering some of the data points by 10-20% support the desired hypothesis

b. Figure 4A by manipulating data points and reducing error bars and failing to report that JM-HER3 construct had cloning tags

c. Figure 4B by reducing several data points by ~ 15%

Mr. Littlefield has entered into a Voluntary Settlement Agreement and has voluntarily agreed:

(1) To have his research supervised for period of three (3) years beginning on August 4, 2015; Respondent agreed that prior to the submission of an application for U.S. Public Health Service (PHS) support for a research project on which his participation is proposed and prior to his participation in any capacity on PHS-supported research, Respondent shall ensure that a plan for supervision of his duties is submitted to ORI for approval; the supervision plan must be designed to ensure the scientific integrity of his research contribution; Respondent agreed that he will not participate in any PHS-supported research until such a supervision plan is submitted to and approved by ORI; Respondent agreed to maintain responsibility for compliance with the agreed upon supervision plan;

(2) that for period of three (3) years beginning on August 4, 2015, any institution employing him shall submit in conjunction with each application for PHS funds, or report, manuscript, or abstract involving PHS-supported research in which Respondent is involved, a certification to ORI that the data provided by Respondent are based on actual experiments or are otherwise legitimately derived, and that the data, procedures, and methodology are accurately reported in the application, report, manuscript, or abstract;

(3) to exclude himself voluntarily from serving in any advisory capacity to PHS including, but not limited to, service on any PHS advisory committee, board, and/or peer review committee, or as a consultant for period of three (3) years beginning on August 4, 2015; and

(4) to retraction or correction of the following papers:

• Science Signaling 7:ra114, 2014

• Chemistry & Biology 21:453-458, 2014

FOR FURTHER INFORMATION CONTACT: Acting Director, Office of Research Integrity, 1101 Wootton Parkway, Suite 750, Rockville, MD 20852, (240) 453-8200.

Donald Wright,
Acting Director, Office of Research Integrity.

[FR Doc. 2015-21421 Filed 8-28-15; 8:45 am]

BILLING CODE 4150-31-P